DEPARTMENT OF HEALTH AND HUMAN SERVICES

Indian Health Service

[Funding Announcement Number: HHS-2007-IHS-HPDP1-0001]

Office of Clinical and Preventive Services Chronic Care Collaborative

Announcement Type: Cooperative Agreement.

Catalog of Federal Domestic Number: 93.443.

Intended Recipient: Institute for Healthcare Improvement.

Award Amount: $600,000 for year 1; $800,000 for years 2 and 3.

Application Deadline: February 1, 2007.

Authorities: Snyder Act, 25 U.S.C. 13, Public Health Service (PHS) Act, 42 U.S.C. 301(a).

I. Purpose

In this cooperative agreement, the Indian Health Service (IHS) will work closely with the Institute for Healthcare Improvement (IHI) on innovating and testing new designs of care delivery systems, leveraging results for thousands of patients, and creating a system-wide emphasis on improvement. The IHI's senior leaders and faculty will work closely with the senior leadership team of the Indian health care system to design an improvement strategy to meet the following agreed upon aims:

To test adaptations and innovations in chronic conditions management in the IHS.

• To develop a strategy for spreading the lessons learned to all IHS sites as well as Tribal and urban sites.

• To create a more robust improvement infrastructure.

• To nurture the image of the IHS as an innovator in healthcare by publicizing successes.

Leadership is the critical driver for change and the IHI will work with the IHS, Tribal and Urban health programs leadership to build a culture and structure to support improved levels of performance in the delivery of health care. The IHI and the IHS will work collaboratively to build new models of care and care processes, with the intent of disseminating such learning and “best practices” throughout the Indian health care system. The IHS will have the opportunity to showcase the results of this work by publishing them on shared websites as well as in jointly authored publications.

II. Justification

The IHI is a non-profit organization that is leading improvement in health care throughout the world. IHI has unparalleled experience and expertise in working with health systems that care for underserved populations to improve the quality of care for their patients and build capacity for continuing improvement. IHI developed and employs a Breakthrough Series methodology (Learning Model Collaborative) to provide programmatic guidance and focus through coordinated training and support, communication, and sharing of lessons learned. They are world leaders in this area and have worked with other programs in similar settings to improve chronic illness systems of care for underserved and vulnerable populations, including the Health Resources and Services Administration/Bureau of Primary Health Care's health center program for eight years. The IHI's intellectual capital and operational capacity are essential to the IHS. The IHI has the resources and access to an international network of experts in the area of chronic disease management and implementing chronic care models in various settings. Most other improvement agencies and organizations focus on specific steps and methodologies while IHI takes a much more comprehensive and strategic approach to improvement. Over the past 15 years they have become the recognized world leader in system change in healthcare. They have moved beyond the specifics of software into process development using a variety of techniques to make the best use of technologies and existing organizational capabilities. Their methodologies include improvement advisors who act as peer to peer coaches for organizations implementing change. This personal approach and the IHI's considerable expertise are critical to expand existing Indian Country efforts, where personal connection and effective relationships are often the difference between project success and failure.

This single source cooperative agreement will allow IHS to expedite learning from their organization as well as expedite access to IHI's vast network of strategic partners.

III. Award Information

Type of Awards: Cooperative Agreement.

Estimated Funds Available: The award is for three years. For year one $600,000 is available and for years two and three—$800,000 is available for each year for a continuation award. Award under this announcement is subject to availability of funds.

Anticipated Number of Awards: One single source award will be made under the Program.

Project Period: February 16, 2007-February 15, 2010.

Award Amount: $600,000 in year 1; $800,000 in years 2 and 3.

For information regarding the notification, please contact: Candace M. Jones, MPH, National Programs (NPABQ), 5300 Homestead Road, NE., Albuquerque, NM 87110, 505-248-4961 or candace.jones@ihs.gov.

Electronic Submission: The preferred method for receipt of applications is electronic submission through Grants.gov. Please refer to the following links for complete application instructions: applicant package may be found in Grants.gov (www.grants.gov) or http://www.ihs.gov/NonMedicalPrograms/gogp/gogp_fund.asp.

Dated: January 18, 2007.
Robert G. McSwain,
Deputy Director, Indian Health Service.

[FR Doc. 07-386 Filed 1-29-07; 8:45 am]

BILLING CODE 4165-16-M